DEPARTMENT OF LABOR

Employment and Training Administration

[TA-W-58,185]

General Electric Company; Mebane, NC; Notice of Termination of Investigation

Pursuant to Section 221 of the Trade Act of 1974, as amended, an investigation was initiated on October 24, 2005 in response to a worker petition filed by the North Carolina Employment Security Commission on behalf of workers at General Electric Company, Mebane, North Carolina.

The petitioner has requested that the petition be withdrawn. Consequently the investigation has been terminated.

Signed at Washington, DC, this 4th day of November, 2005.
Richard Church,
Certifying Officer, Division of Trade Adjustment Assistance.

[FR Doc. E5-6324 Filed 11-15-05; 8:45 am]

BILLING CODE 4510-30-P